DEPARTMENT OF HEALTH AND HUMAN SERVICES

Centers for Disease Control and Prevention

[60Day-25-25BN; Docket No. CDC-2024-0098]

Proposed Data Collection Submitted for Public Comment and Recommendations

AGENCY: Centers for Disease Control and Prevention (CDC), Department of Health and Human Services (HHS).

ACTION: Notice with comment period.

SUMMARY: The Centers for Disease Control and Prevention (CDC), as part of its continuing effort to reduce public burden and maximize the utility of government information, invites the general public and other federal agencies the opportunity to comment on a proposed information collection, as required by the Paperwork Reduction Act of 1995. This notice invites comment on a proposed information collection project titled 2024 Marburg Traveler Symptom Monitoring and Feedback. This information collection is designed to conduct post-arrival symptom monitoring of travelers who have been in the outbreak area and evaluate the impact of rerouting and public health entry screening on travelers.

DATES: CDC must receive written comments on or before February 3, 2025.

ADDRESSES: You may submit comments, identified by Docket No. CDC-2024-0098 by either of the following methods:

• Federal eRulemaking Portal: www.regulations.gov. Follow the instructions for submitting comments.

• Mail: Jeffrey M. Zirger, Information Collection Review Office, Centers for Disease Control and Prevention, 1600 Clifton Road NE, MS H21-8, Atlanta, Georgia 30329.

Instructions: All submissions received must include the agency name and Docket Number. CDC will post, without change, all relevant comments to www.regulations.gov. Please note: Submit all comments through the Federal eRulemaking portal (www.regulations.gov) or by U.S. mail to the address listed above.

FOR FURTHER INFORMATION CONTACT: To request more information on the proposed project or to obtain a copy of the information collection plan and instruments, contact Jeffrey M. Zirger, Information Collection Review Office, Centers for Disease Control and Prevention, 1600 Clifton Road NE, MS H21-8, Atlanta, Georgia 30329; Telephone: 404-639-7570; Email: omb@cdc.gov.

SUPPLEMENTARY INFORMATION: Under the Paperwork Reduction Act of 1995 (PRA) (44 U.S.C. 3501-3520), federal agencies must obtain approval from the Office of Management and Budget (OMB) for each collection of information they conduct or sponsor. In addition, the PRA also requires federal agencies to provide a 60-day notice in the Federal Register concerning each proposed collection of information, including each new proposed collection, each proposed extension of existing collection of information, and each reinstatement of previously approved information collection before submitting the collection to the OMB for approval. To comply with this requirement, we are publishing this notice of a proposed data collection as described below.

The OMB is particularly interested in comments that will help:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected;

4. Minimize the burden of the collection of information on those who are to respond, including through the use of appropriate automated, electronic, mechanical, or other technological collection techniques or other forms of information technology, e.g., permitting electronic submissions of responses; and

5. Assess information collection costs.

Proposed Project

2024 Marburg Traveler Symptom Monitoring and Feedback—New—National Center for Emerging and Zoonotic Infectious Diseases (NCEZID), Centers for Disease Control and Prevention (CDC).

Background and Brief Description

The Centers for Disease Control and Prevention (CDC), National Center for Emerging and Zoonotic Infectious Diseases (NCEZID), Division of Global Migration Health (DGMH) requests an Emergency approval for a New information collection. Section 361 of the Public Health Service (PHS) Act (42 U.S.C. 264) authorizes the Secretary of Health and Human Services to make and enforce regulations necessary to prevent the introduction, transmission or spread of communicable diseases from foreign countries into the United States. Under its delegated authority, DGMH works to fulfill this responsibility through a variety of activities, including the operation of Port Health Stations at ports of entry and administration of foreign quarantine regulations; 42 Code of Federal Regulation part 71 (specifically 42 CFR 71.20), public health prevention measures to detect communicable disease. This information collection concerns CDC's responsibility to ensure the successful implementation of traveler monitoring to prevent the transmission or spread of communicable diseases into the United States.

On February 21, 2020, CDC issued an interim final rule (IFR) to amend its Foreign Quarantine regulations, to enable CDC to require airlines to collect, and provide to CDC, certain data regarding passengers and crew arriving from foreign countries for the purposes of health education, treatment, prophylaxis, or other appropriate public health interventions, including travel restrictions. CDC's authority for collecting data for travelers arriving in the United States is contained in 42 CFR 71. Under this IFR, airlines must transmit these data to CDC within 24 hours of an order. The order Requirement for Airlines and Operators to Collect and Transmit Designated Information for Passengers and Crew Arriving into the United States; Requirement for Passengers to Provide Designated Information requiring the collection of this information was issued on October 25, 2021 and went into effect on November 8, 2021. Under this order, airlines may transmit the required information using the existing data-sharing infrastructure in place between the United States Department of Homeland Security (DHS) and HHS/CDC or they must retain the information for a minimum of 30 days and transmit it to CDC within 24 hours upon request. This information collection for contact information is already approved under OMB Control No. 0920-1354.

In September 2024, an outbreak of Marburg virus was detected in the Republic of Rwanda. DHS has instructed airlines to redirect flights carrying persons who have recently traveled from or were otherwise present within Rwanda to land at designated U.S. airports. CDC is conducting public health entry screening at these designated U.S. airports of travelers coming from Rwanda. The purpose of public health entry screening is to detect ill travelers or travelers arriving from regions affected by the outbreak who are at risk of becoming ill with Marburg to facilitate post-arrival management. This information collection has been approved under OMB Control Number 0920-1443.

CDC will utilize information collected during public health entry screening (approved under OMB Control Number 0920-1443) to determine which travelers should be monitored for Marburg symptoms in accordance with CDC's interim recommendations for post-arrival public health management of travelers from Rwanda. Monitoring of travelers will be done via text message and web survey and will take place over a period of 21 days from the traveler's last documented Marburg exposure. Text messages and web survey will be available in English and with an additional translated Kinyarwanda version. The information collected will allow CDC to identify the level of follow up necessary based on the level of risk of exposure to Marburg and determine if additional risk assessment and/or targeted public health measures are needed. Information collected from travelers during symptom monitoring will be shared with state and local health departments through existing secure data-sharing infrastructure. This information collection is necessary to facilitate post-arrival public health management of travelers as specified in CDC interim recommendations for management of U.S.-based healthcare personnel who have been in Rwanda and interim recommendations for post-arrival public health management of travelers from Rwanda. At the end of the 21-day monitoring period, CDC will send a final survey to travelers intended to evaluate the impact of rerouting and public health entry screening on travelers. The results of this final survey will allow CDC to identify the most efficient channels for reaching travelers and refine public health messaging for travelers coming from the outbreak area.

CDC requests OMB approval for an estimated 2,833 annual burden hours. There is no cost to respondents other than their time to participate.

Estimated Annualized Burden Hours
Type of respondent | Form name | Number of respondents | Number responses per respondent | Avg. burden per response (in hrs.) | Total burden (in hrs.)
Traveler | 2024 Marburg Symptom Monitoring Daily Group | 438 | 21 | 1/60 | 153
| 2024 Marburg Symptom Monitoring Daily Group—Web Survey for Symptomatic Travelers | 438 | 21 | 5/60 | 767
Traveler | 2024 Marburg Symptom Monitoring Weekly Group | 3,942 | 3 | 1/60 | 197
| 2024 Marburg Symptom Monitoring Weekly Group—Web Survey for Symptomatic Travelers | 3,942 | 3 | 5/60 | 986
Traveler | 2024 Marburg Response Survey of Travelers | 4,380 | 1 | 10/60 | 730
Total |  |  |  |  | 2,833

Jeffrey M. Zirger,
Lead, Information Collection Review Office, Office of Public Health Ethics and Regulations, Office of Science, Centers for Disease Control and Prevention.

[FR Doc. 2024-28321 Filed 12-2-24; 8:45 am]

BILLING CODE 4163-18-P